DEPARTMENT OF THE INTERIOR

Bureau of Land Management

[AK-910-07-1310-AG]

Extension of Scoping Period on an Integrated Activity Plan (IAP)/Environmental Impact Statement (EIS) for the Northwest Area of the National Petroleum Reserve-Alaska (NPR-A)

AGENCY: Bureau of Land Management, Interior.

ACTION: Notice of extension of scoping period.

SUMMARY: The Bureau of Land Management (BLM) is announcing the extension of the scoping period for planning its future management of approximately 9.4 million acres in northwestern NPR-A. A Notice of Intent published in the Federal Register on November 15, 2001, indicates scoping information and comments are to be received by December 15, 2001 or 45 days after publication of the original notice. The BLM is extending the time for receiving these comments until February 15, 2002. The closing date for nominations of areas of interest to oil and gas companies remains December 31, 2001.

FOR MORE INFORMATION CONTACT: For further information, contact Curtis Wilson (907) 271-5546 at BLM's Alaska State Office, 222 West 7th Avenue, Anchorage, Alaska 99513.

Francis R. Cherry, Jr.,
State Director.

[FR Doc. 02-982 Filed 1-14-02; 8:45 am]

BILLING CODE 4310-JA-P